SMALL BUSINESS ADMINISTRATION

[Declaration of Disaster #3351]

State of Kansas

Leavenworth County and the contiguous counties of Atchison, Douglas, Jefferson, Johnson and Wyandotte in the State of Kansas; and Platte County in the State of Missouri constitute a disaster area as a result of damages caused by severe thunderstorms and flash flooding that occurred on June 19, 2001. Applications for loans for physical damage may be filed until the close of business on August 27, 2001 and for economic injury until the close of business on March 26, 2002 at the address listed below or other locally announced locations: U.S. Small Business Administration, Disaster Area 3 Office, 4400 Amon Carter Blvd., Suite 102, Ft. Worth, TX 76155.

The interest rates are:

| Percent
For physical damage:
Homeowners with credit available elsewhere | 6.625
Homeowners without credit available elsewhere | 3.312
Businesses with credit available elsewhere | 8.000
Businesses and non-profit organizations without credit available elsewhere | 4.000
Others (including non-profit organizations) with credit available elsewhere | 7.125
For economic injury:
Businesses and small agricultural cooperatives without credit available elsewhere | 4.000

The number assigned to this disaster for physical damage is 335111 for Kansas and 335211 for Missouri. The number assigned to this disaster for economic injury is 9M0400 for Kansas and 9M0500 for Missouri.

(Catalog of Federal Domestic Assistance Program Nos. 59002 and 59008)
Dated: June 26, 2001.
John Whitmore,
Acting Administrator.

[FR Doc. 01-16631 Filed 7-2-01; 8:45 am]

BILLING CODE 8025-01-P